DEPARTMENT OF COMMERCE

National Oceanic and Atmospheric Administration

50 CFR Part 648

[Docket No. 140214138-4482-02]

RIN 0648-XF043

Fisheries of the Northeastern United States; Atlantic Bluefish Fishery; Commercial Quota Harvested for the State of New York

AGENCY: National Marine Fisheries Service (NMFS), National Oceanic and Atmospheric Administration (NOAA), Commerce.

ACTION: Temporary rule; closure.

SUMMARY: NMFS announces that the 2016 commercial Atlantic bluefish quota allocated to the State of New York has been harvested. Vessels issued a commercial Federal permit for this fishery may not land bluefish in New York for the remainder of calendar year 2016, unless additional quota becomes available through a transfer from another state. Regulations governing these fisheries require publication of this notice to advise New York that the quota has been harvested, and to advise Federal vessel and dealer permit holders that no Federal commercial quota is available to land bluefish in New York.

DATES: Effective 0001 hours, December 2, 2016, through December 31, 2016.

FOR FURTHER INFORMATION CONTACT: Reid Lichwell, (978) 281-9112, or Reid.Lichwell@noaa.gov.

SUPPLEMENTARY INFORMATION: Regulations governing the bluefish fishery are found at 50 CFR part 648. The bluefish regulations require annual specification of a commercial quota that is apportioned on a percentage basis among the coastal states from Florida through Maine. The processes to set the bluefish annual commercial quotas and the percent allocated to each state are described in § 648.162.

The initial coast wide commercial quota for Atlantic bluefish for the 2016 fishing year was set at 4,884,780 lb (2,215,699 kg) (81 FR 51370; August 4, 2016). The percent allocated to New York is 10.39 percent, resulting in an initial commercial quota of 507,289 lb (230,103 kg). The 2016 allocation was adjusted to 877,289 lb (397,932 kg) (81 FR 85904; November 29, 2016) to reflect quota transfers from other states.

The Administrator, Greater Atlantic Region, NMFS (Regional Administrator), monitors the state commercial quotas and determines when a state's commercial quota has been harvested. NMFS is required to publish a notice in the Federal Register alerting Federal commercial vessel and dealer permit holders that, effective upon a specific date, the state's commercial quota has been harvested and no commercial quota is available to land bluefish in that state. The Regional Administrator has determined, based upon dealer reports and other available information, that New York has harvested its bluefish quota for 2016.

Section 648.4(b) provides that Federal permit holders agree, as a condition of the permit, not to land bluefish in any state that the Regional Administrator has determined no longer has commercial quota available. Therefore, vessels holding Federal commercial permits are prohibited from landing bluefish, effective 0001 hours, December 2, 2016, for the remainder of the 2016 calendar year, unless additional quota becomes available through a transfer and is announced in the Federal Register. Federally permitted dealers are also notified that they may not purchase bluefish, effective 0001 hours, December 2, 2016, from federally permitted vessels that land in New York for the remainder of the calendar year, or until additional quota becomes available through a transfer from another state.

Classification

This action is required by 50 CFR part 648 and is exempt from review under Executive Order 12866.

The Assistant Administrator for Fisheries, NOAA (AA), finds good cause pursuant to 5 U.S.C. 553(b)(B) to waive prior notice and the opportunity for public comment because it would be contrary to the public interest. This action closes the bluefish fishery for New York until January 1, 2017, under current regulations. The regulations at § 648.103(b) require such action to ensure that vessels do not exceed state quotas. If implementation of this closure was delayed to solicit public comment, the quota for this fishing year would be exceeded, thereby undermining the conservation objectives of the Atlantic Bluefish Fishery Management Plan. The AA further finds, pursuant to 5 U.S.C. 553(d)(3), good cause to waive the 30 day delayed effectiveness period for the reason stated above.

Authority: 16 U.S.C. 1801 et seq.

Dated: November 30, 2016.
Emily H. Menashes,
Acting Director, Office of Sustainable Fisheries, National Marine Fisheries Service.

[FR Doc. 2016-29137 Filed 12-1-16; 4:15 pm]

BILLING CODE 3510-22-P